FEDERAL COMMUNICATIONS COMMISSION

47 CFR Part 8

[CG Docket No. 22-2; FCC 22-86; DA 23-617; FCC 23-68; FR ID 175318]

Empowering Broadband Consumers Through Transparency

AGENCY: Federal Communications Commission.

ACTION: Final rule; announcement of compliance dates.

SUMMARY: In this document, the Commission announces the compliance dates for the rules implementing the Infrastructure Investment and Jobs Act per the Broadband Label Order. The rules require broadband internet access service providers (providers) to display, at the point of sale, labels that disclose certain information about broadband prices, introductory rates, data allowances, and broadband speeds, and to include links to information about their network management practices, privacy policies, and the Commission's Affordable Connectivity Program.

DATES:

Effective date: October 10, 2023.

Compliance dates: Compliance with 47 CFR 8.1(a)(1), (a)(2), (a)(4) through (a)(6), published at 87 FR 76959 (December 16, 2022) and amended at 88 FR 52043 (August 7, 2023) and 88 FR 63853 (September 18, 2023), for providers with 100,000 or fewer subscriber lines is required as of October 10, 2024 and for all other providers is required as of April 10, 2024, except that compliance with the requirement in 47 CFR 8.1(a)(2) to make labels accessible in online account portals will not be required for all providers until October 10, 2024. Compliance with 47 CFR 8.1(a)(3) is required for all providers as of October 10, 2024. The Commission will publish a document in the Federal Register revising 47 CFR 8.1 to incorporate these compliance dates.

FOR FURTHER INFORMATION CONTACT: Erica H. McMahon of the Consumer and Governmental Affairs Bureau, Consumer Policy Division, at (202) 418-0346 or Erica.McMahon@fcc.gov.

SUPPLEMENTARY INFORMATION: This document announces that the Office of Management and Budget approved the information collection requirements in §§ 8.1(a)(1) through (a)(6) and (b) on September 19, 2023. The Commission publishes this document as an announcement of the compliance dates of the rules. In an Order on Reconsideration published at 88 FR 63853 (September 18, 2023), the Commission affirmed its determinations that providers must itemize monthly discretionary fees on the label and state how much data is provided with the service plan, as outlined by the label template. It also clarified that the requirement to document interactions with consumers at alternate sales channels will be deemed satisfied if, instead, the provider establishes the business practices and processes it will follow in distributing the label through alternative sales channels; retains training materials and related business practice documentation for two years; and provides such information to the Commission upon request, within 30 days. The Commission also determined that wireless providers have the flexibility to state “taxes included” or add similar language to the label template when the provider has chosen to include taxes as part of its base price. In addition, the Commission affirmed its determination in the Broadband Label Order that “enterprise service offerings or special access services are not `mass-market retail services,' and therefore, not covered by our label requirement.” To request materials in accessible formats for people with disabilities (Braille, large print, electronic files, audio format), send an email to fcc504@fcc.gov or call the Consumer and Governmental Affairs Bureau at (202) 418-0530 (voice).

Federal Communications Commission.
Marlene Dortch,
Secretary.

[FR Doc. 2023-21682 Filed 10-5-23; 4:15 pm]

BILLING CODE 6712-01-P